DEPARTMENT OF HEALTH AND HUMAN SERVICES

Centers for Disease Control and Prevention

[Docket No. CDC-2020-0029]

Management of Acute and Chronic Pain: Request for Comment

AGENCY: Centers for Disease Control and Prevention (CDC), Department of Health and Human Services (HHS).

ACTION: Request for comment.

SUMMARY: The Centers for Disease Control and Prevention (CDC) in the Department of Health and Human Services (HHS) announces the opening of a docket to obtain comment concerning perspectives on and experiences with pain and pain management, including but not limited to the benefits and harms of opioid use, from patients with acute or chronic pain, patients' family members and/or caregivers, and health care providers who care for patients with pain or conditions that can complicate pain management (e.g., opioid use disorder or overdose)—hereafter called “stakeholders.” CDC will use these comments to inform its understanding of stakeholders' values and preferences related to pain and pain management options.

DATES: Written comments must be received on or before June 16, 2020.

ADDRESSES: Submit written comments, identified by Docket No. CDC-2020-0029 by any of the following methods:

• Federal eRulemaking Portal: http://www.regulations.gov. Follow the instructions for submitting comments.

• Mail: Shannon Lee, Centers for Disease Control and Prevention, 1600 Clifton Road NE, Mailstop S106-9, Atlanta, Georgia 30329.

Instructions: All submissions received must include the agency name and Docket Number. All relevant comments received will be posted without change to http://regulations.gov, including any personal information provided. For access to the docket to read background documents or comments received, go to http://www.regulations.gov.

FOR FURTHER INFORMATION CONTACT: Shannon Lee, Centers for Disease Control and Prevention, 1600 Clifton Road NE, Mailstop S106-9, Atlanta, Georgia 30329, 404-498-3290, InjuryCenterEngage@cdc.gov.

SUPPLEMENTARY INFORMATION:

Public Participation

Interested persons or organizations are invited to participate by submitting written views, recommendations, and data related to perspectives on and experiences with pain and pain management. CDC invites comments specifically on topics focused on using or prescribing opioid pain medications, non-opioid medications, or non-pharmacological treatments (e.g., exercise therapy or cognitive behavioral therapy). These topics are as follows:

• Experiences managing pain, which might include the benefits, risks, and/or harms of the pain management options listed above.

• Experiences choosing among the pain management options listed above, including considering factors such as each option's accessibility, cost, benefits, and/or risks.

• Experiences getting information needed to make pain management decisions.

Please note that comments received, including attachments and other supporting materials, are part of the public record and are subject to public disclosure. Comments will be posted on https://www.regulations.gov. Therefore, do not include any information in your comment or supporting materials that you consider confidential, proprietary, or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted.

Background

Public comment will help CDC's understanding of stakeholders' values and preferences regarding pain management and will complement CDC's ongoing work assessing the need for updating or expanding the CDC Guideline for Prescribing Opioids for Chronic Pain, published in 2016 (available in the Supporting Materials tab of the docket and at: https://www.cdc.gov/mmwr/volumes/65/rr/rr6501e1.htm). Please note that HHS/CDC is also planning opportunities for stakeholder engagements and conversations on these topics. These have been postponed because of COVID-19 but will be announced in a future Federal Register Notice when they are rescheduled.

More information about CDC's assessment of the need for updating or expanding the Guideline and the establishment of a federal advisory committee workgroup to provide expert input and observations to CDC on the possible Guideline update or expansion is available at https://www.cdc.gov/injury/bsc/opioid-workgroup-2019.html. If the Guideline is updated or expanded, CDC would request public comment on the draft document through a notice in the Federal Register prior to final publication.

Anyone who would like to receive information related to CDC's ongoing work specific to drug overdose prevention (including the ongoing response to the opioid overdose epidemic) as well as other updates (e.g., pertaining to resources and tools) may sign up at www.cdc.gov/emailupdates and select topics of interest. Available offerings include:

• Subscription Topics: Injury, Violence & Safety

• Subtopic: Drug Overdose News

Dated: April 14, 2020.
Sandra Cashman,
Executive Secretary, Centers for Disease Control and Prevention.

[FR Doc. 2020-08127 Filed 4-16-20; 8:45 am]

BILLING CODE 4163-18-P